CORPORATION FOR NATIONAL AND COMMUNITY SERVICE

Proposed Information Collection; Comment Request

AGENCY: Corporation for National and Community Service.

ACTION: Notice.

SUMMARY: The Corporation for National and Community Service (CNCS), as part of its continuing effort to reduce paperwork and respondent burden, conducts a pre-clearance consultation program to provide the general public and federal agencies with an opportunity to comment on proposed and/or continuing collections of information in accordance with the Paperwork Reduction Act of 1995 (PRA95) (44 U.S.C. 3506(c)(2)(A)). This program helps to ensure that: Requested data can be provided in the desired format; reporting burden (time and financial resources) is minimized; collection instruments are clearly understood; and the impact of collection requirements on respondents can be properly assessed.

Currently, CNCS is soliciting comments concerning its proposed National Assessment of the Social Innovation Fund (SIF). The study involves two major data collection activities. The first is a survey of SIF grantees (intermediary organizations) and two comparison groups (non-selected SIF applicant organizations, and a sample of national nonprofits that make grants to U.S. organizations). The second involves semi-structured interviews with stakeholders of the intermediaries to obtain more in-depth understanding of the SIF program. Both the survey and the stakeholder interviews are intended to be repeated annually for three years. The survey and stakeholder interviews are designed to allow CNCS SIF program administrators and others in the field to understand how the SIF program is implemented and what effects the program has on participating organizations (intermediaries and sub grantees) and on the larger field of social innovation, scaling of interventions, and evidence-based grantmaking. Completion of this information collection is not required to be considered for or obtain grant funding from the Social Innovation Fund.

Copies of the information collection request can be obtained by contacting the office listed in the Addresses section of this Notice.

DATES: Written comments must be submitted to the individual and office listed in the ADDRESSES section by July 1, 2014.

ADDRESSES: You may submit comments, identified by the title of the information collection activity, by any of the following methods:

(1) By mail sent to: Corporation for National and Community Service, Office of Research and Evaluation; Attention: Lily Zandniapour, Ph.D., Evaluation Program Manager, Room 10911, 1201 New York Avenue NW., Washington, DC, 20525.

(2) By hand delivery or by courier to the CNCS mailroom at Room 8100 at the mail address given in paragraph (1) above, between 9:00 a.m. and 4:00 p.m. Eastern Time, Monday through Friday, except Federal holidays.

(3) Electronically through www.regulations.gov or through the Corporation's email system to lzandniapour@cns.gov.

Individuals who use a telecommunications device for the deaf (TTY-TDD) may call 1-800-833-3722 between 8:00 a.m. and 8:00 p.m. Eastern Time, Monday through Friday.

FOR FURTHER INFORMATION CONTACT: Lily Zandniapour, 202-606-6939, or by email at lzandniapour@cns.gov.

SUPPLEMENTARY INFORMATION: CNCS is particularly interested in comments that:

• Evaluate whether the proposed collection of information is necessary for the proper performance of the functions of CNCS, including whether the information will have practical utility;

• Evaluate the accuracy of the agency's estimate of the burden of the proposed collection of information, including the validity of the methodology and assumptions used;

• Enhance the quality, utility, and clarity of the information to be collected; and

• Minimize the burden of the collection of information on those who are expected to respond, including the use of appropriate automated, electronic, mechanical, or other technological collection techniques or other forms of information technology (e.g., permitting electronic submissions of responses).

Background

CNCS has contracted with ICF International to support CNCS's Office of Research and Evaluation to implement a national assessment of the SIF program, focusing on SIF impact on use of evidence-based grant making strategies, organizations' ability and willingness to build the evidence base for models and to scale models, and collaborative approaches to addressing local community needs. This project involves a quasi-experimental research design, using a survey of SIF grantees (intermediaries), and comparison groups of (1) non-selected applicants and (2) other grant making nonprofits. Additionally the study involves a series of brief interviews with various stakeholders to augment and assist in understanding the survey results.

Survey data will be collected using an on-line survey program. Interview data will be collected via taped and written notes on telephone conversations.

Data analysis will focus on identifying and understanding factors associated with intermediaries' selection and support of sub-grantees, implementation of rigorous evaluation methods, scaling of evidence-based interventions, and change in organizational culture, infrastructure, and behavior. Quantitative data analysis will include descriptive statistics, inferential analysis of survey responses by organization characteristics, and comparisons among SIF grantees and between grantees and the comparison groups. Qualitative data analysis of stakeholder interviews will supplement data from the surveys.

Current Action

Type of Review: New.

Agency: Corporation for National and Community Service.

Title: National Assessment of the Social Innovation Fund (SIF).

OMB Number: None.

Agency Number: None.

Affected Public: CNCS-funded SIF intermediaries; non-funded applicant organizations; other nonprofit grant making organizations.

Total Respondents: Written Surveys 520; Interviews 100.

Frequency: Three times over three years.

Average Time Per Response: Averages 36.9 minutes for surveys and 30 minutes for interviews.

Respondent category | Number | Time (minutes) | Estimated total burden hours per year | Estimated total burden hours over three years
Survey Respondents | 520 | 36.9 | 320 | 960
Interview Participants | 100 | 30 | 50 | 150

Estimated Total Burden Hours: 370 hours per year and 1,110 hours over three years.

Total Burden Cost (capital/startup): None.

Total Burden Cost (operating/maintenance): None.

Comments submitted in response to this notice will be summarized and/or included in the request for Office of Management and Budget approval of the information collection request; they will also become a matter of public record.

Dated: April 28, 2014.
Mary Morris Hyde,
Acting Director,
Office of Research and Evaluation.

[FR Doc. 2014-10013 Filed 5-1-14; 8:45 am]

BILLING CODE 6050-28-P